DEPARTMENT OF THE INTERIOR

Fish and Wildlife Service

Denial of Permit for Marine Mammals

On April 26, 2001, a notice was published in the Federal Register, Vol. 66, No. 81, Page 21007, that an application had been filed with the Fish and Wildlife Service by the Baltimore Zoo, Baltimore, Maryland, for a permit (PRT-040039) to import a live captive held polar bear (Ursus maritimus) from Jardin de Quebec Zoologique, Quebec, Canada, for public display purposes. Notice is hereby given that on June 11, 2001, as authorized by the provisions of the Marine Mammal Protection Act of 1972, as amended (16 U.S.C. 1361 et seq.) the Fish and Wildlife Service denied the requested permit.

Documents and other information submitted for this application is available for review by any party who submits a written request to the U.S. Fish and Wildlife Service, Division of Management Authority, 4401 North Fairfax Drive, Rm 700, Arlington, Virginia 22203, phone (703) 358-2104 or Fax (703) 358-2281.

Dated: June 18, 2001.
Monica Farris,
Senior Permit Biologist, Branch of Permits, Division of Management Authority.

[FR Doc. 01-19052 Filed 7-30-01; 8:45 am]

BILLING CODE 4310-55-P